DEPARTMENT OF COMMERCE

National Oceanic and Atmospheric Administration

[RTID 0648-XD786]

Magnuson-Stevens Fishery Conservation and Management Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The exempted fishing permit would allow federally permitted fishing vessels to fish outside fishery regulations in support of exempted fishing activities proposed by the Maine Department of Marine Resources. Regulations under the Magnuson-Stevens Fishery Conservation and Management Act and the Atlantic Coastal Fisheries Cooperative Management Act require publication of this notification to provide interested parties the opportunity to comment on applications for proposed exempted fishing permits (EFP).

DATES: Comments must be received on or before March 28, 2024.

ADDRESSES: You may submit written comments by the following method:

• Email: nmfs.gar.efp@noaa.gov. Include in the subject line “MDMR 2024 On-demand EFP”

All comments received are a part of the public record and will generally be posted for public viewing in https://www.noaa.gov/organization/information-technology/foia-reading-room without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, Christine.Ford@noaa.gov, (978) 281-9185.

SUPPLEMENTARY INFORMATION: The Maine Department of Marine Resources (MDMR) submitted a complete application for an EFP to conduct commercial fishing activities that the regulations would otherwise restrict to test alternative gear retrieval systems that only use one traditional surface buoy. This EFP would exempt the participating vessels from the following Federal regulations:

Table 1—Requested Exemptions
CFR citation | Regulation | Need for exemption
50 CFR 697.21(b)(2) | Gear marking requirements | For trial of trap/pot gear with no more than one surface marking on trawls of more than three traps.
50 CFR 648.84(b) | Gear marking requirements | For trial of gillnet gear with no more than one surface marking.

Table 2—Project Summary
Project title | Testing various acoustic on-demand fishing technologies that help minimize the risk of large whale entanglements in trap/pot and gillnet fishing gear in the Gulf of Maine.
Project Start | Upon Issuance.
Project End | One year from the date of issuance.
Project objectives | Provide access, training, and support to fishers in the Gulf of Maine to test acoustic on-demand fishing and gear geolocation technology. Data collected will help provide feedback to manufacturers to adapt to the specific needs of Maine fishers involved in fixed gear fleets. This work is important to reduce the risk associated with vertical lines to the endangered North Atlantic right whale in the Gulf of Maine.
Project location | Trap/pot: Lobster Management Area 1 and all Maine Lobster Conservation Zones (A, B, C, D, E, F, G). Gillnet: Statistical Areas 513, 514, 515.
Number of vessels | 50 (up to 45 trap/pot; up to 5 gillnet).
Number of trips, trip duration (days), total number of days, number of tows or sets, and duration of tows or sets | See project narrative.
Gear type(s) | Trap/pot and anchored gillnet.

Project Narrative

This EFP would allow federally permitted vessels to test alternative gears to reduce entanglement risk to protected species, mainly the North Atlantic right whale, in trap/pot and sink gillnet fisheries. There are two components to this EFP, a gear library component, which is an assortment of devices and technologies to retrieve gear, and a gear geolocation component.

For the gear library component, participating vessels would replace one traditional surface marking with a spring-tag or timed-release retrieval system, a buoy and stowed-rope system, or a lift-bag system. A spring-tag retrieval system uses a low breaking strength (<1,700 pounds (lb) (<771 kilograms (kg))) buoy line that releases a stowed retrieval line of greater breaking strength when subjected to tension (>75 lb (>34 kg)). A timed-release retrieval system releases a stowed line after a programmed pre-set soak time. A buoy and stowed-rope system or a lift-bag system uses an acoustic trigger sent from the vessel to release the retrieval system, once the vessel is in close proximity to the gear. Each vessel would modify two trawls or strings by replacing one of the traditional vertical lines with one of the available on-demand retrieval systems, resulting in no additional vertical lines in the water. Vessels would be required to use one traditional surface marking on the other end of trap trawls of more than three traps and on all gillnet gear. For trap trawls of fewer than three traps, vessels would still use one traditional surface marking, in addition to the on-demand retrieval system; therefore, there would be no fully ropeless trawls. Other than gear markings, all trap trawls and gillnet strings would be consistent with the regulations of the management area where the vessel is fishing and would be fished in accordance with the participating vessels' standard operations (i.e., number and length of trips, soak times, trap limits, etc.).

The gear geolocation component of this project will include a subset (up to 10) of the trap/pot vessels participating in the gear library component. Vessels would use acoustic positioning systems from any of the five available manufacturers (Teledyne Benthos, Ropeless Systems, Ashored, Nova Robotics, and Advanced Navigation), and would modify up to three trawls by replacing one of the traditional vertical lines with either a buoy and stowed-rope system or a lift-bag system to communicate with the acoustic positioning systems. The trawls would be set at different distances apart, within a density slightly greater than common gear densities, allowed to soak no longer than one hour each, and then be retrieved in rapid succession. The focus of this component would be testing the acoustic positioning systems to determine the extent of difference between acoustic geolocation and surface buoy or surface GPS geolocation, as well as testing the performance of the different acoustic positioning systems in an environment where multiple acoustic signals are being transmitted simultaneously. Up to 10 discrete single-day gear geolocation trials would be conducted within the fishing year. These trials would increase trap/pot effort via short soaks and high rate of retrieval. However, catch per unit effort would be reduced. Any legal catch would be kept for sale.

MDMR researchers anticipate up to 5,200 total hauls of hybrid trap/pot trawls or gillnet strings for the gear library component, and up to an additional 150 retrievals of hybrid trap/pot trawls for the gear geolocation component. Trap trawls would be consistent with Atlantic Large Whale Take Reduction Plan (ALWTRP) regulations. Trawls would not exceed 50 traps per trawl and the gear library component trawls would soak for approximately 3 days (and not more than 30 days). Gillnets would be consistent with ALWTRP and Harbor Porpoise Take Reduction Plan (HPTRP) regulations. Gillnets would use 15-30.5 centimeters (cm) mesh, would not exceed 3,200 meters (m), and would soak for a period of approximately 24 hours (and not more than 30 days).

To ensure broad participation and target areas where data is needed, MDMR has requested the flexibility to modify the participant vessel list and would submit modifications to the active participants list one month in advance. MDMR and the gear manufacturers will distribute gear and train all participants on its use. Scientific observers may accompany the participants on up to two trips per vessel, within budget and safety limitations. MDMR would provide standardized data collection sheets to all participants, but individually identifiable data will only be made public with the express permission of the vessel owner. Additionally, MDMR has requested an EFP Interactive Voice Response (IVR) reporting waiver for those trap/pot vessels not typically subject to IVR reporting; the applicant states that this requirement is a barrier to fishermen recruitment to this project, and is duplicative of the required eVTR reporting.

The project objectives are to: (1) Collect data on deployments and retrievals of various acoustic on-demand fishing gears within the trap/pot and gillnet fisheries in the Gulf of Maine; (2) provide support and training to fishers on various on-demand technologies; (3) assess fishing areas that may be best suited for adopting the tested retrieval systems; (4) increase familiarity within the trap/pot and gillnet fisheries with on-demand gear; (5) provide feedback to on-demand fishing gear manufacturers to increase performance under commercial fishery conditions; (6) trial gear geolocation and marking systems that promote interoperability for fishers and management; and (7) compare the relative precision of various gear geolocation technologies to improve understanding of how transitioning to acoustic technologies may impact fishing behavior.

MDMR has proposed the following best management and risk reduction practices:

• Experimental buoy lines would be marked with unique white and blue markings above the required regional markings;

• All vessels would provide mandatory, weekly gear loss and conflict reports to the Principal Investigator (PI), and the PI would provide monthly gear loss and conflict reports to the NOAA Greater Atlantic Regional Fisheries Office;

• After release, the on-demand vertical lines would be retrieved as quickly as possible to minimize time in the water column;

• All vessels would record right whale sightings on data sheets, and would notify NMFS via email (ne.rw.survey@noaa.gov), or NOAA via phone (866-755-6622), or the U.S. Coast Guard (Channel 16);

• All vessels would adhere to a 10-knot speed limit when transiting dynamic management areas, transiting areas closed to vertical lines, and/or when whales are observed;

• All vessels would adhere to current approach regulations that create a 500-yard (1,500-feet (ft)) buffer zone in the presence of a surfacing right whale and would depart immediately at a safe and slow speed. Hauling any fishing gear would cease once the entire string or trawl was aboard the vessel, to accommodate the regulation, and be redeployed only after it was reasonable to assume the whale left the area; and

• Law enforcement would be able to inspect gear at any time because one traditional surface-marking would be present at all times. The PI would notify law enforcement agencies (NOAA Office of Law Enforcement (OLE) and Maine Marine Patrol) of project participants and activities in advance of the project start date, including:

○ Materials related to the redeployment of alternative gear-retrieval systems, most relevant to the spring-tagline retrieval system; and

○ Information necessary to continue relevant enforcement operations with participant gear.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 7, 2024.
Everett Wayne Baxter,
Acting Director, Office of Sustainable Fisheries, National Marine Fisheries Service.

[FR Doc. 2024-05262 Filed 3-12-24; 8:45 am]

BILLING CODE 3510-22-P